NUCLEAR REGULATORY COMMISSION

[Docket No. 50-247; NRC-2012-0284]

Entergy Nuclear Indian Point 2, LLC; Entergy Nuclear Operations, Inc., Indian Point Nuclear Generating Unit No. 2, Request for Action

AGENCY: Nuclear Regulatory Commission.

ACTION: Request for Action; receipt.

SUMMARY: The U.S. Nuclear Regulatory Commission (NRC or the Commission) is giving notice that by petition dated April 16, 2012; the Natural Resources Defense Council, Inc. (the petitioner) has requested that the NRC take action with regard to Indian Point Nuclear Generating Unit No. 2. The petitioner's requests are included in the SUPPLEMENTARY INFORMATION section of this document.

ADDRESSES: Please refer to Docket ID NRC-2012-0284 when contacting the NRC about the availability of information regarding this document. You may access information related to this document, which the NRC possesses and is publicly available, using the following methods:

• Federal Rulemaking Web site: Go to http://www.regulations.gov and search for Docket ID NRC-2012-0284. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to PDR.Resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

SUPPLEMENTARY INFORMATION:

On April 16, 2012, the petitioner requested that the NRC take action with regard to Indian Point Nuclear Generating Unit No. 2. The petitioner requests that the NRC order the licensee of Indian Point Nuclear Generating Unit No. 2 to remove the passive autocatalytic recombiners (PARs) because the PAR system could have unintended ignitions in the event of a severe accident, which, in turn, could cause a hydrogen detonation. As the basis for this request, the petitioner references experimental data where PARs malfunction in environments containing high concentrations of combustible gases by having ignitions. The petitioner asserts that the PARs could be overwhelmed by the production of hydrogen following a severe reactor accident and a resulting ignition could lead to a detonation that challenges the structural integrity of the containment structure.

The request is being treated pursuant to Title 10 of the Code of Federal Regulations (10 CFR) 2.206, “Requests for Action Under this Subpart,” of the Commission's regulations. The request has been referred to the Director of the Office of Nuclear Reactor Regulation (NRR). As provided by 10 CFR 2.206, appropriate action will be taken on this petition within a reasonable time. The petitioner met with the NRR petition review board on June 14 (transcript at ADAMS Accession No. ML12300A412) and September 12, 2012 (transcript at ADAMS Accession No. ML12300A428), to discuss the petition. The results of that discussion were considered in the board's determination regarding the petitioner's request for action and in establishing the schedule for the review of the petition. A copy of the petition is available for inspection under ADAMS Accession No. ML12108A052.

Dated at Rockville, Maryland, this 16th day of November 2012.
For the Nuclear Regulatory Commission.
Eric J. Leeds,
Director, Office of Nuclear Reactor Regulation.

[FR Doc. 2012-28718 Filed 11-26-12; 8:45 am]

BILLING CODE 7590-01-P